DEPARTMENT OF AGRICULTURE

Forest Service

Notice of Resource Advisory Committee Meeting

AGENCY: Southwest Idaho Resource Advisory Committee, Boise, ID, USDA, Forest Service.

ACTION: Notice of meeting.

SUMMARY: Pursuant to the authorities in the Federal Advisory Committee Act (Pub. L. 92-463) and under the Secure Rural Schools and Community Self-Determination Act of 2000 (Pub. L. 106-393), the Boise and Payette National Forests' Southwest Idaho Resource Advisory Committee will meet Wednesday, November 20, 2002 in Boise, Idaho for a business meeting. The meeting is open to the public.

SUPPLEMENTARY INFORMATION: The business meeting on November 20, begins at 10:30 a.m., at the Idaho Counties Risk Management Program Building, 3100 Vista Avenue, Boise, Idaho. Agenda topics will include review and approval of project proposals, and an open public forum.

FOR FURTHER INFORMATION CONTACT: Randy Swick, Designated Federal Officer, at (208) 634-2290.

Dated: October 29, 2002.
Mark J. Madrid,
Forest Supervisor, Payette National Forest.

[FR Doc. 02-27970 Filed 11-01-02; 8:45 am]

BILLING CODE 3410-11-M